DEPARTMENT OF ENERGY

Federal Energy Regulatory Commission

[Docket No. EL05-151-000]

Public Service Company of New Mexico, Complainant, v. Southwestern Public Service Company, Respondent; Notice of Complaint

September 16, 2005.

Take notice that on September 15, 2005, Public Service Company of New Mexico (PNM) filed a formal complaint against Southwestern Public Service Company (SPS) pursuant to section 206 of the Federal Power Act (FPA), 16 U.S.C. 824e (2000), and Rule 206 of the Commission's Rules of Practice and Procedure, 18 CFR 385.206 (2005). PNM states that: (1) SPS's cost-based rates for Interruptible Power Service to PNM pursuant to Service Schedule C of the Interconnection Agreement between PNM and SPS are excessive, are not just and reasonable and are unduly discriminatory or preferential, (2) SPS historically violated the fuel cost adjustment clause (FCAC) provisions applicable to Interruptible Power Service to PNM, as well as the Commission's FCAC regulations; and (3) SPS has historically and continues to violate the FCAC provisions applicable to two firm power sales contracts to PNM, as well as the Commission's FCAC regulations. PNM requests that the Commission establish a refund effective date of September 13, 2005 for SPS's cost-based rates for Interruptible Power Service, and that the Commission establish an investigation of SPS's FCAC charges to PNM from January 2001 through the present and on an ongoing basis during the pendency of the complaint proceeding.

PNM certifies that copies of the complaint were served on the contacts for SPS as listed on the Commission's list of Corporate Officials, as well as on counsel for all parties to the proceedings in Docket Nos. EL05-19-000 and ER05-168-000.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on October 6, 2005.

Magalie R. Salas,
Secretary.

[FR Doc. E5-5209 Filed 9-27-05; 8:45 am]

BILLING CODE 6717-01-P